DEPARTMENT OF ENERGY

Federal Energy Regulatory Commission

[Docket No. EL15-85-000]

New Hampshire Transmission, LLC; Notice of Institution of Section 206 Proceeding, Setting Refund Effective Date, and Due Date for Intervention

On August 12, 2015, the Commission issued an order in Docket No. EL15-85-000, pursuant to section 206 of the Federal Power Act (FPA), 16 U.S.C. 824e (2012), instituting an investigation into the justness and reasonableness of New Hampshire Transmission, LLC's recovery of cost related to the development of its SeaLink project through the Regional Network Service formula rates. ISO New England Inc., 152 FERC ¶ 61,121 (2015).

The refund effective date in Docket No. EL15-85-000, established pursuant to section 206(b) of the FPA, will be the date of publication of this notice in the Federal Register.

Any interested person desiring to become a party in the above-referenced proceeding must file a notice of intervention or motion to intervene, as appropriate, in accordance with Rule 214 of the Commission's Rules of Practice and Procedure (18 CFR 385.214) by 5 p.m. Eastern time on September 2, 2015. The Commission encourages electronic submission of interventions in lieu of paper using the “eFiling” link at http://www.ferc.gov. Persons unable to file electronically should submit an original hard copy of the intervention to the Federal Energy Regulatory Commission, 888 First Street NE., Washington, DC 20426.

Dated: August 12, 2015.
Kimberly D. Bose,
Secretary.

[FR Doc. 2015-20425 Filed 8-18-15; 8:45 am]

BILLING CODE 6717-01-P